ENVIRONMENTAL PROTECTION AGENCY

[EPA-HQ-OAR-2007-0544; FRL-9167-3]

Agency Information Collection Activities: Proposed Collection; Comment Request; Information Request for Pulp and Paper Sector New Source Performance Standards (NSPS) and National Emission Standards for Hazardous Air Pollutants (NESHAP) Residual Risk and Technology Review; EPA ICR No. 2393.01, OMB Control Number 2060-NEW

AGENCY: Environmental Protection Agency (EPA).

ACTION: Notice.

SUMMARY: In compliance with the Paperwork Reduction Act (44 U.S.C. 3501 et seq.), this action announces that the EPA is planning to submit a request for a new Information Collection Request to the Office of Management and Budget. This is a request for a new collection. Before submitting the Information Collection Request to the Office of Management and Budget for review and approval, EPA is soliciting comments on the proposed information collection as described below.

DATES: Comments must be submitted on or before August 23, 2010.

ADDRESSES: Submit your comments, identified by Docket ID No. EPA-HQ-OAR-2007-0544, by one of the following methods:

• www.regulations.gov: Follow the on-line instructions for submitting comments.

• E-mail: a-and-r-docket@epa.gov

• Fax: (202) 566-1741

• Mail: Air and Radiation Docket and Information Center, Environmental Protection Agency, Mailcode: 22821T, 1200 Pennsylvania Ave., NW., Washington, DC 20460.

• Hand Delivery: Air and Radiation Docket and Information Center, U.S. EPA, Room 3334, EPA West Building, 1301 Constitution Avenue, NW., Washington, DC. Such deliveries are only accepted during the Docket's normal hours of operation and special arrangements should be made for deliveries of boxed information.

Instructions: Direct your comments to Docket ID No. EPA-HQ-OAR-2007-0544. EPA's policy is that all comments received will be included in the public docket without change and may be made available on-line at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

FOR FURTHER INFORMATION CONTACT: Bill Schrock, Office of Air Quality Planning and Standards, (E143-03), Environmental Protection Agency, Research Triangle Park, North Carolina 27711; telephone number: (919) 541-5032; fax number: (919) 541-3470; e-mail address: schrock.bill@epa.gov.

SUPPLEMENTARY INFORMATION:

How can I access the docket and/or submit comments?

EPA has established a public docket for this Information Collection Request (ICR) under Docket ID No. EPA-HQ-OAR-2007-0544, which is available for on-line viewing at www.regulations.gov, or in person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742.

Use www.regulations.gov to obtain a copy of the draft collection of information, submit or view public comments, access the index listing of the contents of the docket, and to access those documents in the public docket that are available electronically. Once in the system, select “search,” then key in the docket ID number identified in this document.

What information is EPA particularly interested in?

Pursuant to Paperwork Reduction Act (PRA) section 3506(c)(2)(A), EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility and clarity of the information to be collected; and

(iv) Minimize the burden of the collection of information on those who are to respond, including through the use of appropriate automated electronic, mechanical or other technological collection techniques or other forms of information technology (e.g., permitting electronic submission of responses).

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date and Federal Register citation.

What information collection activity or ICR does this apply to?

Affected entities: Respondents affected by this action are owners/operators of mills that are major sources ¹ of Hazardous Air Pollutant (HAP) emissions and produce pulp, perform bleaching or manufacture paper or paperboard products, including:

¹ As defined in 40 CFR 63.2, “Major source” means any stationary source or group of stationary sources located within a contiguous area and under common control that emits or has the potential to emit considering controls, in the aggregate, 10 tons per year or more of any hazardous air pollutant or 25 tons per year or more of any combination of hazardous air pollutants, unless the Administrator establishes a lesser quantity, or in the case of radionuclides, different criteria from those specified in this sentence.

• Mills that carry out chemical wood pulping (kraft, sulfite, soda or semi-chemical),

• Mills that carry out mechanical, groundwood, secondary fiber and non-wood pulping,

• Mills that perform bleaching, and

• Mills that manufacture paper or paperboard products.

Some mills perform multiple operations (e.g., chemical pulping, bleaching, and papermaking; pulping and unbleached papermaking; etc.). Mills that only purchase pre-consumer paper or paperboard products and convert them into other products (i.e., converting operations) are not affected by this action. The North American Industry Classification System (NAICS) codes for respondents affected by the information collection are listed in the following table.

Category | Description | NAICS Code
Industry | Pulp Mills | 32211
| Paper Mills | 32212
| Paperboard Mills | 32213

Title: Information Collection Request for Pulp and Paper Sector New Source Performance Standards (NSPS) and National Emission Standards for Hazardous Air Pollutants (NESHAP) Residual Risk and Technology Review (RTR).

ICR numbers: EPA ICR Number 2393.01, OMB Control Number 2060-NEW.

ICR status: This ICR is for a new information collection activity. An Agency may not conduct or sponsor, and a person is not required to respond to, a collection of information, unless it displays a currently valid Office of Management and Budget (OMB) control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers in certain EPA regulations is consolidated in 40 CFR part 9.

Abstract: This ICR is being conducted by EPA's Office of Air and Radiation to assist the EPA Administrator, as required by sections 111(b), 112(d), and 112(f)(6) of the Clean Air Act (CAA), as amended, to determine the current affected population of pulp and paper processes and to re-evaluate emission standards for this source category. This one-time collection will solicit information under authority of CAA section 114. The EPA intends to provide the survey in electronic format. The survey will be sent to all facilities identified as being pulp and/or paper production facilities through information available to the Agency. EPA envisions allowing recipients 60 days to respond to the survey. Non-confidential information from this ICR would be made available to the public. EPA estimates the total cost of the information collection (for 386 respondents) will be 127,906 hours and $12,100,453, which includes $2,316 in operation and maintenance (O&M) costs for mailing survey responses to EPA.

The pulp and paper production source category includes any facility engaged in the production of pulp and/or paper. This category includes, but is not limited to, integrated mills (where pulp alone or pulp and paper or paperboard are manufactured on-site), non-integrated mills (where paper or paperboard are manufactured, but no pulp is manufactured on-site), and secondary fiber mills (where waste paper is used as the primary raw material). The pulp and paper production process units include operations such as pulping, bleaching, chemical recovery and papermaking. Different pulping processes are used, including chemical processes (kraft, soda, sulfite and semi-chemical) and mechanical, secondary fiber or non-wood processes. The three federal emission standards that are the subject of this information collection include:

1. Standards of Performance for Kraft Pulp Mills (40 CFR part 60, subpart BB),

2. National Emission Standards for Hazardous Air Pollutants from the Pulp and Paper Industry (40 CFR part 63, subpart S), and

3. National Emission Standards for Hazardous Air Pollutants for Chemical Recovery Combustion Sources at Kraft, Soda, Sulfite, and Stand-Alone Semi-chemical Pulp Mills (40 CFR part 63, subpart MM).

The Standards of Performance (i.e., the NSPS) currently regulates particulate matter (PM) and total reduced sulfur emissions from kraft pulping processes. In general, NESHAP subpart S covers HAP emissions from the pulp production areas (e.g., pulping system vents, pulping process condensates) at chemical, mechanical, secondary fiber and non-wood pulp mills; bleaching operations; and papermaking systems. The subpart S standards include several alternative emission limits for each covered process that are designed to provide flexibility and promote and encourage the use of new technology, particularly combined air/water controls and pollution prevention technologies. The NESHAP subpart MM regulates HAP emissions from the chemical recovery combustion areas of chemical pulp mills (kraft, sulfite, semi-chemical and soda wood pulping processes). For existing kraft and soda combustion units, the subpart MM standards also include a compliance alternative that allows netting of PM emissions for the entire chemical recovery system.

Section 111(b)(1)(B) of the CAA mandates that EPA review and, if appropriate, revise existing NSPS at least every eight years. The NSPS for kraft pulp mills was promulgated in 1978 and reviewed in 1986. Another review of the kraft pulp mill NSPS is required under the CAA. Similarly, Section 112(f)(2) of the CAA directs EPA to conduct risk assessments on each source category subject to maximum achievable control technology (MACT) standards and determine if additional standards are needed to reduce residual risks. The section 112(f)(2) residual risk review is to be done eight years after promulgation. Section 112(d)(6) of the CAA requires EPA to review and revise the MACT standards, as necessary, taking into account developments in practices, processes and control technologies. The section 112(d)(6) technology review is to be done at least every eight years. The NESHAP for the pulp and paper industry (40 CFR part 63, subpart S) was promulgated in 1998 and is due for review under CAA sections 112(f)(2) and 112(d)(6). Likewise, the NESHAP for chemical recovery combustion sources at kraft, soda, sulfite and stand-alone semi-chemical pulp mills (40 CFR part 63, subpart MM) was promulgated in 2001 and is also due for review. In addition to the CAA-required reviews, recent case law and legal petitions suggest the need to review the pulp and paper NESHAP. For example, the EPA received a petition for rulemaking in January 2009 requesting that EPA revise various NESHAP, including the NESHAP for chemical recovery combustion sources at pulp mills, to make the NESHAP consistent with CAA precedent established in recent judicial rulings. Also, in December 2008, the U.S. Court of Appeals for the DC Circuit vacated the startup, shutdown, and malfunction provisions contained in the NESHAP General Provisions that apply to pulp and paper mills. To the extent that these legal actions need to be addressed in the pulp and paper NESHAP, EPA intends to investigate potential rule revisions at the same time as the CAA statutory reviews are conducted.

The data used as the basis for the originally promulgated NESHAP are over 15 years old, and data used to review the NSPS are over 20 years old. The Agency is aware that significant changes have been made in the intervening years in the number of affected facilities, in industry ownership practices and in emission collection and control configurations. Further, in light of the statutory requirements for reviewing emission standards under CAA sections 111(b) and 112 and the recent case law interpreting those requirements, the Agency has concluded that obtaining updated information will be crucial to informing its decisions on the NSPS and NESHAP for pulp and paper manufacturing sources.

The EPA has already begun assembling data for a preliminary residual risk assessment for the pulp and paper NESHAP subparts S and MM. Data sets derived from the EPA's 2005 National Scale Air Toxics Assessment (NATA) National Emissions Inventory (NEI) will be used for the RTR. Additional mill-specific information would allow EPA to better characterize emission sources, refine the risk analysis and to address any unacceptable residual risk that remains. An update of the 2005 NATA NEI data sets and more specific information needed for rulemaking regulatory analyses would be derived from the ICR. Information collected directly from pulp and paper mills will have the greatest practical utility for purposes of performing the RTR and NSPS reviews as information from the affected industry will contain the most up-to-date, accurate and reliable equipment and operational data for each mill.

CAA section 114(a) states that the Administrator may require any owner or operator subject to any requirement of this Act to:

(A) Establish and maintain such records; (B) make such reports; (C) install, use, and maintain such monitoring equipment, and use such audit procedures, or methods; (D) sample such emissions (in accordance with such procedures or methods, at such locations, at such intervals, during such periods, and in such manner as the Administrator shall prescribe); (E) keep records on control equipment parameters, production variables or other indirect data when direct monitoring of emissions is impractical; (F) submit compliance certifications in accordance with section 114(a)(3); and (G) provide such other information as the Administrator may reasonably require.

At present, the EPA does not have a database reflecting the post-MACT and post-effluent guidelines configurations of pulp and paper emission units and air pollution control systems. It is essential for the EPA to have updated information to use in the regulatory analyses required under CAA sections 112(d) and 112(f)(2). In addition, this updated information will be used to perform the NSPS review required under CAA section 111(b). By conducting all of the CAA-required reviews at the same time (i.e., the subpart S and MM RTR reviews and the subpart BB NSPS review), the Agency can make use of a single collection of information that would allow the Agency to consider control strategies that are the most effective for both HAP and criteria air pollutants (such as PM, SO2, and NOX) that are regulated under NSPS. The data would also allow the Agency to evaluate compliance options for startup and shutdown periods, and to consider ways to consolidate monitoring, reporting and recordkeeping requirements among the different rules under review.

The data collected will be used to update facility information and equipment configuration, develop new estimates of the population of affected units, and identify the control measures and alternative emission limits being used for compliance with the existing rules that are under review. This information, along with existing permitted emission limits, will be used to establish a baseline for purposes of the regulatory reviews. The emissions test data (test reports and Continuous Emissions Monitoring Systems (CEMS) data) collected will be used to verify the performance of existing control measures, examine variability in emissions, evaluate emission limits, and to determine the performance of superior control measures considered for purposes of reducing residual risk or as options for best demonstrated technology under the NSPS review. Emissions data will also be used along with process and emission unit details to consider subcategories for further regulation and to estimate the environmental and cost impacts associated with any regulatory options considered.

This collection of information is mandatory under CAA section 114 (42 U.S.C. 7414). All information submitted to EPA pursuant to this ICR for which a claim of confidentiality is made is safeguarded according to Agency policies in 40 CFR part 2, subpart B. An agency may not conduct or sponsor, and a person is not required to respond to, a collection of information unless it displays a currently valid OMB control number. Office of Management and Budget control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the methodology and assumptions used;

(iii) Enhance the quality, utility and clarity of the information to be collected; and

(iv) Minimize the burden of the collection of information on those who are to respond, including through the use of appropriate automated electronic, mechanical or other technological collection techniques or other forms of information technology (e.g., permitting electronic submission of responses).

Burden Statement: The projected cost and hour burden for industry for this one-time collection of information is $12,098,137 and 127,906 hours. This burden is based on an estimated 386 respondents to the survey. This ICR does not include any requirements that would cause the respondents to incur either capital or start-up costs. Operation and maintenance costs of $2,316 are estimated for postage to mail in the survey response to EPA. Burden means the total time, effort or financial resources expended by persons to generate, maintain, retain or disclose or provide information to, or for a federal agency. This includes the time needed to review instructions; develop, acquire, install and utilize technology and systems for the purposes of collecting, validating and verifying information, processing and maintaining information and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here.

Estimated total number of potential respondents: 386 facilities.

Frequency of response: One time.

Estimated total average number of responses for each respondent: 1.

Estimated total annual burden hours: 127,906.

Estimated total annual costs: $12,100,453. This includes an estimated burden cost of 12,098,137 and an estimated cost of $2,316 for capital investment or maintenance and operational costs.

What is the next step in the process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Steve Fruh,
Acting Director, Sector Policies and Programs Division.

[FR Doc. 2010-15221 Filed 6-22-10; 8:45 am]

BILLING CODE 6560-50-P